ENVIRONMENTAL PROTECTION AGENCY

40 CFR Part 70

[TN-T5-2001-04; FRL-7103-2]

Clean Air Act Final Full Approval of Operating Permit Programs; Tennessee and Memphis-Shelby County

AGENCY: Environmental Protection Agency (EPA).

ACTION: Final full approval.

SUMMARY: EPA is promulgating full approval of the operating permit programs of the Tennessee Department of Environment and Conservation and the Memphis-Shelby County Health Department. These programs were submitted in response to the directive in the 1990 Clean Air Act (CAA) Amendments that permitting authorities develop, and submit to EPA, programs for issuing operating permits to all major stationary sources and to certain other sources within the permitting authorities' jurisdiction. EPA granted interim approval to the Tennessee and Memphis-Shelby County operating permit programs on July 29, 1996. Tennessee and Memphis-Shelby County revised their programs to satisfy the conditions of the interim approval and EPA proposed full approval in the Federal Register on March 20, 2001. Because EPA received adverse comments on the proposed action, this action responds to those comments and promulgates final full approval of the Tennessee and Memphis-Shelby County operating permit programs.

EFFECTIVE DATE: November 30, 2001.

ADDRESSES: Copies of the Tennessee and Memphis-Shelby County submittals and other supporting documentation used in developing the final full approval are available for inspection during normal business hours at EPA Region 4, Air Planning Branch, 61 Forsyth Street, SW, Atlanta, Georgia 30303-8960. Interested persons wanting to examine these documents, which are contained in EPA docket file numbered TN-T5-2001-01, should make an appointment at least 48 hours before the visiting day.

FOR FURTHER INFORMATION CONTACT: Ms. Kim Pierce, Regional Title V Program Manager, Air Planning Branch, EPA, 61 Forsyth Street, SW, Atlanta, Georgia 30303-8960, (404) 562-9124, or pierce.kim@epa.gov/.

SUPPLEMENTARY INFORMATION: This section provides additional information by addressing the following questions:

What is the operating permit program?

Why is EPA taking this action?

What were the concerns raised by the commenters?

What is involved in this final action?

What is the effective date of EPA's full approval of the Tennessee and Memphis-Shelby County title V operating permit programs?

What Is the Operating Permit Program?

Title V of the CAA Amendments of 1990 required all state and local permitting authorities to develop operating permit programs that met certain federal criteria. In implementing the title V operating permit programs, the permitting authorities require certain sources of air pollution to obtain permits that contain all applicable requirements under the CAA. The focus of the operating permit program is to improve enforcement by issuing each source a permit that consolidates all of the applicable CAA requirements into a federally enforceable document. By consolidating all of the applicable requirements for a facility, the source, the public, and the permitting authorities can more easily determine what CAA requirements apply and how compliance with those requirements is determined.

Sources required to obtain an operating permit under the title V program include: “major” sources of air pollution and certain other sources specified in the CAA or in EPA's implementing regulations. For example, all sources regulated under the acid rain program, regardless of size, must obtain operating permits. Examples of major sources include those that have the potential to emit 100 tons per year or more of volatile organic compounds (VOCs), carbon monoxide, lead, sulfur dioxide, nitrogen oxides (NOX), or particulate matter (PM10); those that emit 10 tons per year of any single hazardous air pollutant (specifically listed under the CAA); or those that emit 25 tons per year or more of a combination of hazardous air pollutants (HAPs). In areas that are not meeting the National Ambient Air Quality Standards for ozone, carbon monoxide, or particulate matter, major sources are defined by the gravity of the nonattainment classification. For example, in ozone nonattainment areas classified as “serious,” major sources include those with the potential of emitting 50 tons per year or more of VOCs or NOX.

Why Is EPA Taking This Action?

Where a title V operating permit program substantially, but not fully, met the criteria outlined in the implementing regulations codified at 40 Code of Federal Regulations (CFR) part 70, EPA granted interim approval contingent on the state revising its program to correct the deficiencies. Because the Tennessee and Memphis-Shelby County operating permit programs substantially, but not fully, met the requirements of part 70, EPA granted interim approval to each program in a rulemaking published on July 29, 1996 (61 FR 39335). The interim approval notice described the conditions that had to be met in order for the Tennessee and Memphis-Shelby County programs to receive full approval. Interim approval of these programs expires on December 1, 2001.

Tennessee and Memphis-Shelby County fulfilled the conditions of the interim approval and EPA published a direct final notice (66 FR 15680, March 20, 2001) to fully approve their operating permit programs. However, adverse comments were received in response to the companion proposal notice that was also published on March 20, 2001, so the direct final rule was withdrawn (see 66 FR 24061, May 11, 2001).

What Were the Concerns Raised by the Commenters?

EPA received three comment letters during the public comment period. The National Parks Conservation Association (NPCA) submitted two letters, dated April 19, 2001 and June 11, 2001. The Tennessee Valley Authority (TVA) also submitted a letter on June 11, 2001. Copies of these letters are included in the docket file maintained at the EPA Region 4 office.

1. Letter From NPCA Dated April 19, 2001.

In its April letter, NPCA raised five issues regarding EPA's proposed full approval of the Tennessee operating permit program. The first issue concerned EPA's failure to extend the public comment period for the proposed rulemaking published on March 20, 2001. During the initial 30-day public comment period, NPCA submitted a Freedom of Information Act request to EPA for information they believed to be necessary for their preparation of comments on the proposed action. Because NPCA did not receive all of the desired information until the last day of the public comment period, they requested an extension in order to review the information and prepare comments. In response to this request, EPA published a notice (66 FR 24084) on May 11, 2001, reopening the public comment period for an additional 30 days.

The second issue concerned EPA's incorrect identification, in the direct final notice published on March 20, 2001, of Paragraph 1200-3-20-.06(5) of the Tennessee Air Pollution Control Regulations as part of the federally approved Tennessee State Implementation Plan (SIP). Paragraph 1200-3-20-.06(5) states that “[w]here violations are determined from properly certified and operating continuous emission monitors, no notice of violation(s) will be automatically issued unless the specified de minimis levels are exceeded.” EPA concurs with NPCA's comment and clarifies in this action that Paragraph 1200-3-20-.06(5) is not part of the current Tennessee SIP.

As a third issue, NPCA further requested that if EPA ever acts to approve Paragraph 1200-3-20-.06(5) as part of the Tennessee SIP, then it should be confirmed that this rule does not excuse, provide an affirmative defense for, or automatically exempt any excess emissions. The NPCA maintained that Paragraph 1200-3-20-.06(5) should apply only to the State's SIP-approved obligation to automatically issue a notice of violation for excess emissions. These comments, however, fall outside the scope of this rulemaking because EPA is not taking action on Paragraph 1200-3-20-.06(5). Tennessee has submitted Paragraph 1200-3-20-.06(5) as a SIP revision and EPA will address NPCA's comments when it takes SIP rulemaking action.

The fourth issue raised by NPCA involved the inclusion of Paragraph 1200-3-20-.06(5) in Tennessee's title V operating permit program even though it had not been approved into the SIP. Part 70, however, only requires that program requirements be enforceable as a matter of state law, not that they be approved into the SIP prior to incorporation into a title V program. Moreover, since there are no federal requirements for including excess emissions regulations (such as Tennessee's Chapter 1200-3-20) in title V programs, the State sent a letter to EPA, dated October 16, 2001, voluntarily requesting that Chapter 1200-3-20 be withdrawn from its title V program. This action acknowledges withdrawal of Chapter 1200-3-20 from Tennessee's title V program. For the record, Memphis-Shelby County has never submitted its excess emissions rule to EPA for approval as part of the County's operating permit program.

As the fifth issue, NPCA further contended that Tennessee had used Paragraph 1200-3-20-.06(5) to undercut the enforceability of permit limits derived from applicable requirements. The NPCA cited a permit condition in the title V operating permit issued to the TVA Bull Run plant as an example of Tennessee's use of Paragraph 1200-3-20-.06(5) to weaken an opacity standard, and NPCA requested EPA to require that Tennessee withdraw Rule 1200-3-20-.06 from its operating permit program. As discussed above, the State sent a letter to EPA on October 16, 2001, voluntarily requesting that Chapter 1200-3-20 be withdrawn from its title V program. This action acknowledges the withdrawal.

Tennessee's withdrawal of Chapter 1200-3-20 from its operating permit program does not substantively affect the use of the permit language that NPCA believes is problematic. Specifically, NPCA is concerned about a provision in the TVA Bull Run title V permit stating that no automatic notice of violation shall be issued if the plant exceeds the applicable opacity standard for less than two percent of the total amount of time it operates in a calendar quarter. The permit condition further states that “[w]ritten responses to the quarterly reports of excess emissions shall constitute prima facie evidence of compliance with the applicable visible emission standard.” The NPCA believes that this permit condition not only limits the ability of EPA and citizens to enforce permit conditions independent of the State, but that it excuses periods of excess emissions of up to two percent of the operating time in a calendar quarter from being violations of the applicable 20 percent visible emission standard. Furthermore, NPCA believes that such a provision violates EPA's policy of not approving the use of “director's discretion.”

EPA disagrees with NPCA's interpretations of the provision in the TVA Bull Run title V permit. The condition stating that “no notice of violation shall be automatically issued * * *” refers to the automatic issuance provision in Rule 1200-3-20-.06, which notifies the regulated community how Tennessee will proceed when it receives monitoring information demonstrating that a violation has occurred. Neither the permit term or the underlying regulation stipulate that the Director may excuse excess emissions. Paragraph 1200-3-20-.06(5) clearly states that “Where the violations are determined from properly certified and operated continuous emission monitors, no notice of violation(s) will be automatically issued unless the specified de minimis emission levels are exceeded.” The regulation stipulates that all excess emissions be viewed as violations of the applicable opacity standard. Such treatment is consistent with EPA's policy as articulated in the November 2, 1999, guidance memorandum entitled “State Implementation Plans (SIPs): Policy Regarding Excess Emissions During Malfunctions, Startup, and Shutdown.” EPA does not believe that Tennessee can use the language in the TVA Bull Run permit, or in the underlying regulation, to excuse violations at the facility. Moreover, as stated previously, EPA is not taking action on Rule 1200-3-20-.06 in this rulemaking. EPA will, however, continue to monitor the State's use of Rule 1200-3-20-.06 in permits to ensure that violations are not excused.

Furthermore, EPA does not believe that the language in the TVA Bull Run permit regarding Tennessee's findings of compliance restricts the ability of EPA and citizens under the CAA to independently enforce title V operating permit limitations and conditions, or to call into question the State's analyses. Tennessee is the primary enforcement authority of the title V operating permit program in the state, as evidenced by EPA's interim approval of the State's program (61 FR 39335, July 29, 1996) and this final full approval. Tennessee's properly conducted analysis of a facility's compliance status would be considered prima facie evidence of the facility's compliance status. Under the CAA, EPA or citizens may use direct emissions monitoring data generated by continuous emission monitors (CEMs), as well as any other credible evidence, to establish or support an independent effort to determine a facility's compliance status.

2. Letter From NPCA Dated June 11, 2001.

In the June letter, NPCA asserted that EPA cannot grant full approval to Tennessee's title V program because the State is allowed to exclude requirements from operating permits that should properly be considered applicable requirements. The NPCA cited Subparagraphs 1200-3-9-.02(11)(e)2(ii) and 1200-3-9-.02(11)(b)5 of the Tennessee Air Pollution Control Regulations as allowing the unlawful exemption of applicable requirements. However, Subparagraph 1200-3-9.02(11)(e)2(ii) is a verbatim incorporation of the federal requirements found in 40 CFR 70.6(b)(2) and EPA is not in a position to request that Tennessee make changes to a regulation that tracks the equivalent part 70 regulation. EPA encourages the commenter to provide input into any future federal rulemaking process on this issue.

Subparagraph 1200-3-9-.02(11)(b)5, on the other hand, incorporates additional language beyond the federal minimum requirements found in 40 CFR 70.2 for the definition of “Applicable requirement.” Tennessee's definition further specifies that “terms and conditions that do not implement relevant requirements of the Federal Act” are not considered applicable requirements, and NPCA believes that this language could be used to designate conditions from state operating permits as terms that are not federally enforceable. EPA concurs with NPCA that it is not clear why the State added this language. However, it is consistent with 40 CFR 70.6(b)(2) and Subparagraph 1200-3-9-.02(11)(e)2(ii), which specifies that “* * * the Technical Secretary shall specifically designate as not being federally enforceable under the Federal Act any terms and conditions included in the permit that are not required under the Federal Act or under any of its applicable requirements.”

EPA does not agree with NPCA that the additional language in Subparagraph 1200-3-9-.02(11)(b)5, in combination with Tennessee's definition of “Applicable requirements,” gives the State authority to exclude requirements from operating permits that should be considered applicable requirements. As stated earlier, the intent of the title V operating permit program is the consolidation of all federal applicable requirements for a source in the operating permit. All federal requirements applicable to the source, such as national emissions standards for hazardous air pollutants, new source performance standards, and the applicable requirements of SIPs and permits issued pursuant to permit programs approved in the SIP ¹, are federally enforceable by EPA and citizens under the CAA. If a state does not want a SIP provision or a condition from a permit issued pursuant to a SIP-approved program to be federally enforceable, it must take appropriate steps, in accordance with the substantive and procedural requirements in title I of the CAA, to remove those conditions from the SIP or the permit. If there is no such removal and the SIP provision or permit condition is not carried over to the title V operating permit, then that title V permit would be subject to an objection by EPA pursuant to 40 CFR 70.8(c).

¹ These programs include major and minor new source review (NSR), prevention of significant deterioration (PSD), and federally enforceable state operating permit (FESOP) programs.

As part of its oversight role, EPA has undertaken a detailed review of at least 10 percent of Tennessee's title V operating permits, and a cursory review of numerous other operating permits, prior to issuance by the State. During these reviews, EPA has not found evidence that the State is not including conditions from permits issued pursuant to SIP-approved programs in its title V operating permits. Moreover, no evidence was presented by NPCA of Tennessee's failure to adequately implement this requirement of the title V program. EPA does, however, agree that the additional language in Subparagraph 1200-3-9-.02(11)(b)5 could be misinterpreted, and will request that Tennessee make clarifications in a future rulemaking. EPA will also ensure that the State continues to include all applicable requirements in its title V operating permits.

3. Letter From TVA Dated June 11, 2001.

In its letter, TVA expressed support for EPA's full approval of the Tennessee and Memphis-Shelby County operating permit programs, as well as concern that the adverse comments submitted by NPCA also affected full approval of the Memphis-Shelby County program. Because NPCA's comments solely concerned Tennessee's program, TVA recommended that EPA immediately publish a notice fully approving the Memphis-Shelby County program and clarifying that the reopened public comment period only applied to the Tennessee program. EPA does not agree with TVA's conclusion.

Because Memphis-Shelby County incorporates the State's regulations, the comments received on the Tennessee operating permit program could have also applied to the County's program. Not only was EPA statutorily required to withdraw the direct final notice if any adverse comments were received, but the potential existed for NPCA's comments to have affected the Memphis-Shelby County program.

What Is Involved in This Final Action?

Based on analysis of the comments received, EPA has determined that the concerns raised do not constitute deficiencies in the Tennessee title V operating permit program. Tennessee and Memphis-Shelby County have fulfilled the conditions of the interim approval granted on July 29, 1996, and EPA is taking final action by this notice to fully approve their operating permit programs. EPA is also taking action to approve other program changes made by Tennessee since the interim approval was granted. For detailed information regarding the program revisions, please refer to the Federal Register notices published on March 20, 2001, and to the information contained in the docket files.

What Is the Effective Date of EPA's Full Approval of the Tennessee and Memphis-Shelby County Title V Operating Permit Programs?

EPA is using the good cause exception under the Administrative Procedure Act (APA) to make full approval of the Tennessee and Memphis-Shelby County operating permit programs effective on November 30, 2001. In relevant part, section 553(d) of the APA provides that publication of “a substantive rule shall be made not less than 30 days before its effective date, except—* * * (3) as otherwise provided by the agency for good cause found and published with the rule. Good cause may be supported by an agency determination that a delay in the effective date is “impracticable, unnecessary, or contrary to the public interest.” EPA believes that it is necessary and in the public interest to make this action effective sooner than 30 days following publication. In this case, EPA believes that it is in the public interest for full approval of the Tennessee and Memphis-Shelby County programs to take effect before December 1, 2001, which is the date that interim approval of these programs expires. In the absence of full approval taking effect before the interim approval expires, federal operating permit programs pursuant to 40 CFR part 71 would automatically take effect on December 1, 2001. Since these federal programs would remain in place until the effective date(s) of fully-approved Tennessee and Memphis-County programs, the resulting changes could cause confusion for sources and the public with regards to permitting obligations.

Furthermore, a delay in the effective date is not necessary because Tennessee and Memphis-Shelby County have been administering interim approved operating permit programs for more than five years. Through this action, EPA is approving a few revisions to the existing and currently operational programs. The change from an interim approved program, which substantially but not fully met the part 70 requirements, to a fully approved program is relatively minor, especially when compared to the differences between a state or local program and the federal program. In addition, since sources are already complying with the revisions in the Tennessee and Memphis-Shelby County programs as a matter of state and local law, there is little or no additional burden with complying with these requirements under fully-approved programs.

Administrative Requirements

A. Docket

Copies of the Tennessee and Memphis-Shelby County submittals and other supporting documentation used in developing the final full approval are contained in docket files maintained at the EPA Region 4 office. The docket is an organized and complete file of all the information submitted to, or otherwise considered by, EPA in the development of this proposed full approval. The primary purposes of the docket are: (1) To allow interested parties a means to identify and locate documents so that they can effectively participate in the approval process, and (2) to serve as the record in case of judicial review. The docket files are available for public inspection at the location listed under the ADDRESSES section of this document.

B. Executive Order 12866

The Office of Management and Budget (OMB) has exempted this regulatory action from Executive Order 12866, entitled “Regulatory Planning and Review.”

C. Executive Order 13045

Protection of Children from Environmental Health Risks and Safety Risks (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it is not an economically significant regulatory action as defined in Executive Order 12866, and it does not involve decisions intended to mitigate environmental health or safety risks.

D. Executive Order 13132

This rule does not have Federalism implications because it will not have substantial direct effects on the States, on the relationship between the national government and the States, or on the distribution of power and responsibilities among the various levels of government, as specified in Executive Order 13132, “Federalism” (64 FR 43255, August 10, 1999). This rule merely approves existing requirements under state law, and does not alter the relationship or the distribution of power and responsibilities between the state and the federal government established in the CAA.

E. Executive Order 13175

This rule does not have tribal implications because it will not have a substantial direct effect on one or more Indian tribes, on the relationship between the federal government and Indian tribes, or on the distribution of power and responsibilities between the federal government and Indian tribes, as specified by Executive Order 13175, “Consultation and Coordination with Indian Tribal Governments” (65 FR 67249, November 9, 2000).

F. Executive Order 13211

This rule is not subject to Executive Order 13211, “Actions Concerning Regulations That Significantly Affect Energy Supply, Distribution, or Use” (66 FR 28355, May 22, 2001), because it is not a significant regulatory action under Executive Order 12866.

G. Regulatory Flexibility Act

The Regulatory Flexibility Act generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because operating permit program approvals under section 502 of the CAA do not create any new requirements but simply approve requirements that the state is already imposing. Therefore, because this approval does not create any new requirements, I certify that this action will not have a significant economic impact on a substantial number of small entities.

H. Unfunded Mandates Reform Act

Under sections 202 of the Unfunded Mandates Reform Act of 1995, EPA must prepare a budgetary impact statement to accompany any proposed or final rule that includes a federal mandate that may result in estimated costs to state, local, or tribal governments in the aggregate, or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action proposed does not include a federal mandate that may result in estimated costs of $100 million or more to either state, local, or tribal governments in the aggregate, or to the private sector. This federal action approves pre-existing requirements under state or local law, and imposes no new requirements. Accordingly, no additional costs to state, local, or tribal governments, or to the private sector, result from this action.

I. National Technology Transfer and Advancement Act

Section 12 of the National Technology Transfer and Advancement Act (NTTAA) of 1995 requires federal agencies to evaluate existing technical standards when developing a new regulation. To comply with NTTAA, EPA must consider and use “voluntary consensus standards” (VCS) if available and applicable when developing programs and policies unless doing so would be inconsistent with applicable law or otherwise impractical.

In reviewing operating permit programs, EPA's role is to approve state choices, provided that they meet the criteria of the CAA and EPA's regulations codified at 40 CFR part 70. In this context, in the absence of a prior existing requirement for the state to use VCS, EPA has no authority to disapprove an operating permit program for failure to use VCS. It would thus be inconsistent with applicable law for EPA, when it reviews an operating permit program, to use VCS in place of an operating permit program that otherwise satisfies the provisions of the CAA. Thus, the requirements of section 12(d) of NTTAA do not apply.

J. Paperwork Reduction Act

This action will not impose any collection of information subject to the provisions of the Paperwork Reduction Act, 44 U.S.C. 3501 et seq., other than those previously approved and assigned OMB control number 2060-0243. For additional information concerning these requirements, see 40 CFR part 70. An agency may not conduct or sponsor, and a person is not required to respond to, a collection of information unless it displays a currently valid OMB control number.

K. Submission to Congress and the Comptroller General

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

List of Subjects in 40 CFR Part 70

Environmental protection, Administrative practice and procedure, Air pollution control, Intergovernmental relations, Operating permits, Reporting and recordkeeping requirements.

Authority: 42 U.S.C. 7401-7671q.

Dated: November 2, 2001.
A. Stanley Meiburg,
Acting Regional Administrator, Region 4.

For reasons set out in the preamble, title 40, chapter I, of the Code of Federal Regulations is amended as follows:

PART 70—[AMENDED]

1. The authority citation for part 70 continues to read as follows:

Authority: 42 U.S.C. 7401 et seq.

2. Appendix A to part 70 is amended by revising the entry for Tennessee to read as follows:

Appendix A to Part 70—Approval Status of State and Local Operating Permits Programs

* * * * *

Tennessee

(a)(1) Tennessee Department of Environment and Conservation: submitted on November 10, 1994, and supplemented on December 5, 1994, August 8, 1995, January 17, 1996, January 30, 1996, February 13, 1996, April 9, 1996, June 4, 1996, June 12, 1996, July 3, 1996, and July 15, 1996; interim approval effective on August 28, 1996; interim approval expires on December 1, 2001.

(2) Revisions submitted on July 15, 1997, June 16, 1998, February 5, 1999, February 24, 1999, March 5, 1999, June 16, 1999, July 2, 1999, November 30, 1999, December 30, 1999, August 21, 2000, and October 16, 2001. The rule revisions contained in the February 5, 1999, February 24, 1999, March 5, 1999, June 16, 1999, and December 30, 1999, submittals adequately addressed the conditions of the interim approval effective on August 28, 1996, and which would expire on December 1, 2001. The State's operating permit program is hereby granted final full approval effective on November 30, 2001.

(b)(1) Chattanooga-Hamilton County Air Pollution Control Bureau: submitted on November 22, 1993, and supplemented on January 23, 1995, February 24, 1995, October 13, 1995, and March 14, 1996; full approval effective on April 25, 1996.

(2) [Reserved]

(c)(1) Knox County Department of Air Quality Management: submitted on November 12, 1993, and supplemented on August 24, 1994, January 6, 1995, January 19, 1995, February 6, 1995, May 23, 1995, September 18, 1995, September 25, 1995, and March 6, 1996; full approval effective on May 30, 1996.

(2) [Reserved]

(d)(1) Memphis-Shelby County Health Department: submitted on June 26, 1995, and supplemented on August 22, 1995, August 23, 1995, August 24, 1995, January 29, 1996, February 7, 1996, February 14, 1996, March 5, 1996, and April 10, 1996; interim approval effective on August 28, 1996; interim approval expires December 1, 2001.

(2) Revisions submitted on October 11, 1999 and May 2, 2000. The rule revisions contained in the May 2, 2000, submittal adequately addressed the conditions of the interim approval effective on August 28, 1996, and which would expire on December 1, 2001. The County's operating permit program is hereby granted final full approval effective on November 30, 2001.

(e)(1) Metropolitan Health Department of Nashville-Davidson County: submitted on November 13, 1993, and supplemented on April 19, 1994, September 27, 1994, December 28, 1994, and December 28, 1995; full approval effective on March 15, 1996.

(2) Revisions submitted on December 10, 1996, August 27, 1999, and December 6, 1999.

Revised approval effective on August 7, 2000.

* * * * *

[FR Doc. 01-28505 Filed 11-13-01; 8:45 am]

BILLING CODE 6560-50-P